DEPARTMENT OF TRANSPORTATION

National Highway Traffic Safety Administration Electric Vehicle Safety Technical Symposium

AGENCY: National Highway Traffic Safety Administration (NHTSA), Department of Transportation (DOT).

ACTION: Announcement of public symposium.

SUMMARY: The National Highway Traffic Safety Administration (NHTSA) is announcing a technical symposium that will be held in Washington, DC on May 18, 2012 to discuss safety considerations for electric vehicles powered by lithium-ion (Li-ion) batteries. The symposium will include brief NHTSA presentations outlining current agency research and activities related to Li-ion batteries and Li-ion battery-powered vehicles, as well as presentations by the Department of Energy, voluntary standards bodies, and automotive and battery manufacturers. Information on the date, time, location, and framework for this public event is included in this notice. Because of space limitations, registration by May 11, 2012 is highly recommended. There are no fees to register or to attend this event.

DATES: The symposium will be held on May 18, 2012, at the location indicated in the ADDRESSES section below. The symposium will start at 8:30 a.m. and is scheduled to continue until 4:30 p.m., local time. However, the symposium will continue beyond 4:30 p.m. if the presiding official believes that allowing the discussion to extend beyond that time would be beneficial. If you plan to attend the technical symposium, please follow the registration process described under FOR FURTHER INFORMATION CONTACT by May 11, 2012. Depending on the available space, registration may be accepted after that date.

ADDRESSES: The May 18, 2012 symposium will be held in the West Atrium of the U.S. Department of Transportation, 1200 New Jersey Avenue SE., Washington, DC 20590. Registration. The meeting will be open to the public and will be physically accessible to people with disabilities. Due to space limitations, pre-registration is highly recommended. If you would like to attend the symposium, please register by the date specified under the DATES section above, by visiting http://www.nhtsa.gov/nhtsa/events/register.cfm and filling out the on-line form provided. To register, you will be required to provide your first and last name and an email address, and indicate whether you are a U.S. citizen. Please specify any requests for sign language interpretation, other auxiliary aids, or other reasonable accommodation by contacting Mr. Chris Morris, whose contact information is listed under FOR FURTHER INFORMATION CONTACT, no later than May 11, 2012. Last minute requests will be accepted, but may be impossible to fulfill.

FOR FURTHER INFORMATION CONTACT: For technical issues: Mr. Charlie Case, NHTSA Office of Vehicle Safety Compliance, telephone (202) 366-5319, email address: charlie.case@dot.gov.

For logistical issues: Mr. Chris Morris, NHTSA Office of Vehicle Safety, telephone (202) 493-2218; email address: christopher.morris@dot.gov.

SUPPLEMENTARY INFORMATION: The National Highway Traffic Safety Administration (NHTSA) is hosting a public technical symposium to discuss regulatory and safety considerations for lithium-ion (Li-ion) battery-powered vehicles.

Electric vehicles show great promise as an innovative and fuel-efficient option for American drivers. Significant research and other activities related to the safety of these vehicles are ongoing by NHTSA, the Department of Energy (DOE), vehicle and battery manufacturers, standards organizations, and others. The purpose of this symposium is to bring together relevant stakeholders to share information on the status of safety activities related to the use of Li-ion batteries in vehicles designed for on-road use.

In recognition of the growth in the vehicle segment, NHTSA has been focusing increased attention on Li-ion battery safety. For example, the agency has been working with vehicle manufacturers to ensure they have appropriate post-crash protocols. Earlier this year, with the assistance of the National Fire Protection Association, DOE, and others, NHTSA issued interim guidance for consumers, emergency responders, and tow truck operators. This guidance was aimed at increasing awareness about the specific attributes related to Li-ion battery-powered vehicles and at identifying appropriate safety measures to be used in the event of a crash involving such a vehicle.

At the same time, NHTSA is actively involved in developing a body of research regarding electric vehicle safety. The agency is assessing the performance and functional requirements of battery storage systems. NHTSA is conducting a detailed Failure Analysis approach to help the agency to identify the problems that can occur in Li-ion batteries and the severity of their occurrence. This will help NHTSA prioritize its research and potential rulemaking in this area.

Technical Symposium Agenda. NHTSA expects that the following topics will be part of the symposium: NHTSA's ongoing research on Li-ion battery safety; DOE's perspective on Li-ion battery safety; an overview of industry voluntary standards applicable to Li-ion battery-powered vehicles; emergency response procedures relevant to Li-ion battery-powered vehicles; and other safety issues, including those related to battery management systems, battery design parameters, and safety testing.

Technical Symposium Procedures and Logistics. NHTSA will conduct the symposium informally. The symposium will include brief presentations from NHTSA, DOE, voluntary standards bodies, and automotive and battery manufacturers. There will be opportunities for attendees to ask questions of NHTSA and of the technical presenters.

To attend this symposium, please follow the registration process described under FOR FURTHER INFORMATION CONTACT by the date specified under the DATES section. Pre-registration is highly recommended because of security and space limitation reasons. Depending on the available space, late registration may be accepted. After registration, NHTSA will send attendees follow-up information regarding symposium day logistics (i.e., directions to the building, parking accommodations, etc.).

For security purposes, government-issued photo identification is required to enter the Department of Transportation building. Non-U.S. citizens will be required to show passports. To allow sufficient time to clear security and enter the building, NHTSA recommends that symposium participants arrive 30 to 60 minutes prior to the start of the event.

Issued on: April 18, 2012.
David L. Strickland,
Administrator.

[FR Doc. 2012-9786 Filed 4-19-12; 4:15 pm]

BILLING CODE 4910-59-P